DEPARTMENT OF VETERANS AFFAIRS

VA Prevention of Fraud, Waste, and Abuse Advisory Committee—Notice of Meeting

The Department of Veterans Affairs (VA) gives notice under the Federal Advisory Committee that the VA Prevention of Fraud, Waste, and Abuse Advisory Committee will meet virtually on April 9, 2019 from 12:00 p.m. until 2:30 p.m. (EDT). The toll-free telephone number for this meeting is (844) 825-8490, access code: 734168606#. (Note: Note: The telephone line will be muted except for the committee and VA Executives) This meeting will be open the the public.

The purpose of the Committee is to advise the Secretary, through the Assistant Secretary for Management and Chief Financial Officer, on matters relating to improving and enhancing VA's efforts to identify, prevent, and mitigate fraud, waste, and abuse across VA in order to improve the integrity of VA's payments and the efficiency of its programs and activities.

The agenda will include ethics training and a status of VA's implementation of the Committee's recommendations.

No time will be allocated at this meeting for receiving oral presentations from the public. Members of the public may submit written statements for the Committee's review to Elizabeth Morales via email at PFWAAC2@va.gov.

Dated: February 6, 2019.
Jelessa M. Burney,
Federal Advisory Committee Management Officer.

[FR Doc. 2019-01795 Filed 2-8-19; 8:45 am]

BILLING CODE P